SECURITIES AND EXCHANGE COMMISSION

[Release No. 34-104173; File Nos. SR-BSECC-2025-001; BX-2025-024; CboeEDGX-2025-072; CboeBZX-2025-059; CboeBZX-2025-069; CboeBZX-2025-141; CBOE-2025-068; CBOE-2025-069; CBOE-2025-074; CBOE-2025-075; CBOE-2025-076; CBOE-2025-077; CBOE-2025-078; CBOE-2025-079; CBOE-2025-080; FICC-2025-021; GEMX-2025-27; ISE-2025-15; ISE-2025-30; ISE-2025-31; LCH SA-2025-008; MSRB-2025-02; MRX-2025-23; NASDAQ-2025-037; NASDAQ-2025-072; NASDAQ-2025-080; NASDAQ-2025-085; OCC-2025-017; OCC-2025-018; PHLX-2025-50; PHLX-2025-56; SCCP-2025-01]

Self-Regulatory Organizations; Boston Stock Exchange Clearing Corporation, Cboe Exchange, Inc., Cboe BZX Exchange, Inc., Cboe EDGX Exchange, Inc., Fixed Income Clearing Corporation, LCH SA, Municipal Securities Rulemaking Board, The Nasdaq Stock Market LLC, Nasdaq BX, Inc., Nasdaq GEMX, LLC, Nasdaq ISE, LLC, Nasdaq MRX, LLC, Nasdaq PHLX LLC, The Options Clearing Corporation, Stock Clearing Corporation of Philadelphia; Notice of Designation of a Longer Period for Commission Action on Pending Proposed Rule Changes and on Proceedings To Determine Whether To Approve or Disapprove Pending Proposed Rule Changes

November 3, 2025.

I. Extensions to Day 90

On the dates listed in Table 1 below, the following self-regulatory organizations (collectively, the “SROs”) filed with the Securities and Exchange Commission (“Commission”), pursuant to Section 19(b)(1) of the Securities Exchange Act of 1934 (“Act”) ¹ and Rule 19b-4 thereunder,² proposed rule changes to amend their rules pertaining to various matters described in Table 1. Some of the proposed rule changes were published for comment in the Federal Register on the dates indicated below. Section 19(b)(2) of the Act ³ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved.

¹ 15 U.S.C. 78s(b)(1).

² 17 CFR 240.19b-4.

³ 15 U.S.C. 78s(b)(2).

The filings identified in Table 1 below have as their 45th day after publication of the notice (“Day 45”) a date that falls within the month of November 2025. The Commission is extending these 45-day time periods. The Commission finds it appropriate to designate a longer period within which to take action on the proposed rule changes so that it has sufficient time to consider the proposed rule changes and the issues raised therein.⁴ Accordingly, pursuant to Section 19(b)(2) of the Act,⁵ the Commission designates the dates listed in Table 1 below (“Day 90”) as the dates by which the Commission shall either approve or disapprove, or institute proceedings to determine whether to disapprove, the respective filings.

⁴ Due to a lapse in appropriations, the Commission closed on October 1, 2025 and remains closed as of the date of this release. See SEC Operational Status, available at https://www.sec.gov (stating “[d]ue to a lapse in appropriations, the SEC is currently operating in accordance with the agency's plan for operating during a shutdown. Effective Wednesday, October 1, 2025 and until further notice, the agency will have a very limited number of staff members available.”) (last accessed Oct. 23, 2025).

⁵ 15 U.S.C. 78s(b)(2).

Table 1
File No. | Description | Federal Register notice publication | Day 45 | Day 90
1. LCH SA-2025-008 | Revisions to its Terms of Reference of the Nomination Committee and Board of Directors | 34-103975 (Sept. 16, 2025), 90 FR 45288 (Sept. 19. 2025) | Nov. 3 | Dec. 18.
2. NASDAQ-2025-072 | Enable the trading of securities on the Exchange in tokenized form | 34-103989 (Sept. 16, 2025), 90 FR 45426 (Sept. 22, 2025) | Nov. 6 | Dec. 21.
3. CBOE-2025-068 | Permit p.m.-settled options on the Cboe Magnificent 10 Index | 34-104019 (Sept. 23, 2025), 90 FR 46424 (Sept. 26, 2025) | Nov. 10 | Dec. 25.
4. PHLX-2025-50 | List and trade Nasdaq Bitcoin Index Options | 34-104038 (Sept. 24, 2025), 90 FR 46706 (Sept. 29, 2025) | Nov. 13 | Dec. 28.
5. FICC-2025-021 | Modify the GSD Rulebook relating to a new service offering called the ACS Triparty Service | 34-104084 (Sept. 26, 2025), 90 FR 47045 (Sept. 30, 2025) | Nov. 14 | Dec. 29.
6. CBOE-2025-077 | Position and exercise limits for options on ARK 21Shares Bitcoin ETF | Sept. 30 ¹ | Nov. 14 | Dec. 29.
7. CBOE-2025-078 | Amend Rule 4.3 (options on Units that represent interests in several exchange-traded products) | Sept. 30 ¹ | Nov. 14 | Dec. 29.
8. CBOE-2025-076 | Position and exercise limits for options on the Fidelity Wise Origin Bitcoin Fund and to permit Flexible Exchange Options on the Fidelity Fund | Sept. 30 ¹ | Nov. 14 | Dec. 29.
9. CBOE-2025-080 | Position and exercise limits for options on the Fidelity Ethereum Fund and to permit Flexible Exchange Options on the Fidelity Fund | Sept. 30 ¹ | Nov. 14 | Dec. 29.
10. CBOE-2025-069 | Change the minimum increment for options on the Cboe Magnificent 10 Index | 34-104076 (Sept. 25, 2025), 90 FR 47000 (Sept. 30, 2025) | Nov. 14 | Dec. 29.
11. ISE-2025-30 | Adopt listing criteria for options on a Commodity-Based Trust that holds multiple crypto assets | 34-104107 (Sept. 26, 2025), 90 FR 47456 (Oct. 1, 2025) | Nov. 15 | Dec. 30.
12. OCC-2025-017 | Adjustments to cleared contracts | 34-104104 (Sept. 26, 2025), 90 FR 47470 (Oct. 1, 2025) | Nov. 15 | Dec. 30.
13. OCC-2025-018 | Methodology to allocate Clearing Fund deposit requirements among Clearing Members to better align the allocation with the sizing of the Clearing Fund so stress based risk is fairly allotted to market participants that expose OCC to such stress risk | 34-104111 (Sept. 26, 2025), 90 FR 47383 (Oct. 1, 2025) | Nov. 15 | Dec. 30.
14. NASDAQ-2025-080 | Amended and Restated Certificate of Incorporation and By-Laws of its Parent Corporation, Nasdaq, Inc | 34-104108 (Sept. 26, 2025), 90 FR 47418 (Oct. 1, 2025) | Nov. 15 | Dec. 30.
15. ISE-2025-31 | Amended and Restated Certificate of Incorporation and By-Laws of its Parent Corporation, Nasdaq, Inc | 34-104115 (Sept. 29, 2025), 90 FR 47461 (Oct. 1, 2025) | Nov. 15 | Dec. 30.
16. PHLX-2025-56 | Amended and Restated Certificate of Incorporation and By-Laws of its Parent Corporation, Nasdaq, Inc | 34-104109 (Sept. 26, 2025), 90 FR 47401 (Oct. 1, 2025) | Nov. 15 | Dec. 30.
17. BX-2025-024 | Amended and Restated Certificate of Incorporation and By-Laws of its Parent Corporation, Nasdaq, Inc | 34-104110 (Sept. 26, 2025), 90 FR 47428 (Oct. 1, 2025) | Nov. 15 | Dec. 30.
18. GEMX-2025-27 | Amended and Restated Certificate of Incorporation and By-Laws of its Parent Corporation, Nasdaq, Inc | 34-104118 (Sept. 29, 2025), 90 FR 47444 (Oct. 1, 2025) | Nov. 15 | Dec. 30.
19. MRX-2025-23 | Amended and Restated Certificate of Incorporation and By-Laws of its Parent Corporation, Nasdaq, Inc | 34-104120 (Sept. 29, 2025), 90 FR 47373 (Oct. 1, 2025) | Nov. 15 | Dec. 30.
20. NASDAQ-2025-085 | List and Trade Shares of iShares Bitcoin Premium Income ETF | 34-104148 (Sept. 30, 2025), 90 FR 47846 (Oct. 2, 2025) | Nov. 16 | Dec. 31.
21. SCCP-2025-01 | Amended and Restated Certificate of Incorporation and By-Laws of its Parent Corporation, Nasdaq, Inc | 34-104155 (Sept. 30, 2025), 90 FR 48062 (Oct. 3, 2025) | Nov. 17 | Jan. 1, 2026.
22. BSECC-2025-001 | Amended and Restated Certificate of Incorporation and By-Laws of its Parent Corporation, Nasdaq, Inc | 34-104156 (Sept. 30, 2025), 90 FR 48073 (Oct. 3, 2025) | Nov. 17 | Jan. 1, 2026.
23. CboeBZX-2025-141 | List and trade shares of the GraniteShares 4x Long Russell 1000 Daily ETF and the GraniteShares 4x Short Russell 1000 Daily ETF, each a series of GraniteShares ETP Trust | 34-104161 (Sept. 30, 2025), 90 FR 48107 (Oct. 3, 2025) | Nov. 17 | Jan. 1, 2026.
24. CboeEDGX-2025-072 | Adopt a Retail Price Improvement Program and describe the behavior of orders containing a non-displayed instruction | 34-104153 (Sept. 30, 2025), 90 FR 48098 (Oct. 3, 2025) | Nov. 17 | Jan. 1, 2026.
25. CBOE-2025-074 | Amend functionality relating to the processing of auction responses | 34-104159 (Sept. 30, 2025), 90 FR 48094 (Oct. 3, 2025) | Nov. 17 | Jan. 1, 2026.
26. CBOE-2025-075 | Amend Rule 5.4 (change the minimum increment for all series of options on the Cboe Mini Bitcoin U.S. ETF Index) | 34-104157 (Sept. 30, 2025), 90 FR 48071 (Oct. 3, 2025) | Nov. 17 | Jan. 1, 2026.
27. CBOE-2025-079 | Amend Rule 5.1(c) (Global Trading Hours) to allow for trading of multi-listed equity options that meet certain eligibility criteria | 34-104160 (Sept. 30, 2025), 90 FR 48091 (Oct. 3, 2025) | Nov. 17 | Jan. 1, 2026.
28. MSRB-2025-02 | Amend MSRB Rules A-11 and A-13 pursuant to a multi-year rate card and related technical amendments | 34-104154 (Sept. 30, 2025), 90 FR 48082 (Oct. 3, 2025) | Nov. 17 | Jan. 1, 2026.
¹ Filed with the Commission on September 30, 2025, but not sent to the Federal Register for publication before the Commission closed on October 1. Pursuant to Section 19(b)(2)(E) of the Act, if, after an SRO files a proposed rule change and posts it on its publicly accessible website, the Commission does not send the notice of the proposal to the Federal Register within 15 days of the date on which such website publication is made, then the date of publication of the proposal shall be deemed to be the date on which such website publication was made. See 15 U.S.C. 78(b)(2)(E).

II. Extensions to Day 240

The Commission initiated proceedings under Section 19(b)(2)(B) of the Act ⁶ by issuing orders instituting proceedings (“OIPs”) on certain proposed rule changes identified below in Table 2, to determine whether to approve or disapprove them. Section 19(b)(2) of the Act ⁷ provides that, after initiating proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination.

⁶ 15 U.S.C. 78s(b)(2)(B).

⁷ 15 U.S.C. 78s(b)(2).

The filings identified in Table 2 below have as their 180th day after publication of the notice (“Day 180”) a date that falls within the month of November 2025. The Commission is extending consideration of each of these proceedings for an additional 60 days. The Commission finds it appropriate to designate a longer period within which to issue an order approving or disapproving each proposed rule change so that it has sufficient time to consider each proposed rule change and the issues raised therein.⁸ Accordingly, pursuant to Section 19(b)(2) of the Act,⁹ the Commission designates the dates listed in Table 2 below (“Day 240”) as the dates by which the Commission shall either approve or disapprove the filings.

⁸ See supra note 4 (concerning the Commission's operating status).

⁹ 15 U.S.C. 78s(b)(2).

Table 2
File No. | Description | Federal Register OIP Publication | Day 180 | Day 240
1. CboeBZX-2025-059 | 2x Long VIX Futures ETF and -1x Short VIX Futures ETF | 34-103659 (Aug. 7, 2025), 90 FR 38864 (Aug. 12, 2025) | Nov. 5 | Jan. 4, 2026.
2. ISE-2025-15 | Amend the Short Term Option Series Program to list Qualifying Securities | 34-103658 (Aug. 7, 2025), 90 FR 38832 (Aug. 12, 2025) | Nov. 17 | Jan. 16, 2026.
3. NASDAQ-2025-037 | Adopt Rule 5703 to permit the generic listing and trading of Multi-Class Exchange-Traded Fund Shares | 34-103758 (Aug. 21, 2025), 90 FR 41611 (Aug. 26, 2025) | Nov. 23 | Jan. 22, 2026.
4. CboeBZX-2025-069 | List and trade shares of the Canary Staked TRX ETF | 34-103772 (Aug. 25, 2025), 90 FR 42050 (Aug. 28, 2025) | Nov. 25 | Jan. 24, 2026.

For the Commission, by the Division of Trading and Markets, pursuant to delegated authority.¹⁰
¹⁰ 17 CFR 200.30-3(a)(31) and (57).
Vanessa A. Countryman,
Secretary.

[FR Doc. 2025-19911 Filed 11-14-25; 8:45 am]

BILLING CODE 8011-01-P